DEPARTMENT OF TRANSPORTATION

Federal Aviation Administration

[Summary Notice No. PE-2016-43]

Petition for Exemption; Summary of Petition Received; Drone Surveys and Reports

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before May 31, 2016.

ADDRESSES: Send comments identified by docket number FAA-2015-1020 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Dan Ngo, 202-267-4264, 800 Independence Avenue SW., Washington, DC 20591.

This notice is published pursuant to 14 CFR 11.85.

Issued in Washington, DC, on May 2, 2016.
Lirio Liu,
Director, Office of Rulemaking.

Petition for Exemption

Docket No.: FAA-2015-1020.

Petitioner: Drone Surveys and Reports.

Section(s) of 14 CFR Affected: § 61.51.

Description of Relief Sought: Petitioner is requesting to amend Exemption No. 11800 to allow operations of a small unmanned aircraft system (UAS) by a person who does not hold an FAA-issued pilot certificate under the direct supervision of a pilot holding either an airline transport or commercial pilot certificate, in accordance with the conditions and limitations. The petitioner would also like to add the following aircraft to the exemption: 3D Robotics X8, 3DR Solo, Bheema Walkera QR X350 Pro, Blade 350 QX V2, Blade Chroma, DJI Phantom 3, DJI SPREADING WINGS S1000, DJI SPREADING WINGS S900, Dreamfly Walkera Voyager 3, FLYPRO PX400 PRO 2, FREEFLY Alta Drone, HUBSAN X4 Pro High Edition, Lehmann LA100 GoPro Drone, Lumenier QAV250, Parrot AR.Drone 2.0, Parrot BeBop, Q500 4K Typhoon, QAV400, Robotics Iris+, Steadidrone Flare, The Live Video Camera Drone, Turbo Ace Matrix, Turbo Ace X830D Drone RTF, Walkera Scout X4, Walkera Tali, H500, xFold CINEMA X12, xFold CINEMA X8, xFold DRAGON X8 KDE, xFold DRAGON X8 U11, XProHeli ProPack XP2, XProHeli XPX, and Yuneec Typhoon Q500+.

[FR Doc. 2016-11109 Filed 5-10-16; 8:45 am]

BILLING CODE 4910-13-P